DEPARTMENT OF COMMERCE

International Trade Administration

19 CFR Part 351

[Docket No.: 150522476-5476-01]

RIN 0625-AB03

Enforcement and Compliance; Changes to Room Number of APO/Dockets Unit and Web Address for Electronic Filing System and ACCESS Handbook

AGENCY: International Trade Administration, Department of Commerce.

ACTION: Final rule.

SUMMARY: The International Trade Administration's Enforcement and Compliance publishes this rule to change the room number of the Administrative Protective Order and Dockets Unit (APO/Dockets Unit). This rule also changes the web address of Enforcement and Compliance's electronic filing system, Antidumping and Countervailing Duty Centralized Electronic Service System (ACCESS). Finally, this rule changes the web address for the location of the ACCESS Handbook on Electronic Filing. Consistent with this action, this rule makes appropriate conforming changes in the regulations.

DATES: Effective June 25, 2015.

FOR FURTHER INFORMATION CONTACT: Evangeline Keenan, Director, APO/Dockets Unit, Enforcement and Compliance, Telephone (202) 482-3354 or Laura Merchant, IT Manager, Enforcement and Compliance, Telephone (202) 482-0367.

SUPPLEMENTARY INFORMATION: On March 2, 2015, the APO/Dockets Unit changed its location from Room 1870 to Room 18022. This rule updates the regulations to reflect this room change. On October 1, 2013, the Import Administration was renamed Enforcement and Compliance. See Import Administration; Change of Agency Name, 78 FR 62417 (October 22, 2013). On November 20, 2014, Enforcement and Compliance published the final rule updating the name of the electronic filing system from “IA ACCESS” to “ACCESS.” Enforcement and Compliance; Change of Electronic Filing System Name, 79 FR 69046 (November 20, 2014). This rule updates the regulations to reflect the web address so that it conforms with the name change. Thus, “http://iaaccess.trade.gov” is changed to “https://access.trade.gov”. In addition, the location of the ACCESS Handbook on Electronic Filing Procedures (ACCESS Handbook) has moved to the ACCESS Web site. Thus, references to the location of the ACCESS Handbook are changed from the web address “http://www.trade.gov/ia” to “https://access.trade.gov”.

Rulemaking Requirements

1. This final rule has been determined to be not significant under Executive Order 12866.

2. Pursuant to 5 U.S.C. 553(b)(B), good cause exists to waive the provisions of the Administrative Procedure Act (5 U.S.C. 553) requiring advance notice and the opportunity for public comment. Notice and comment are not required for this rule because they are unnecessary. This rule involves a nonsubstantive change to the regulations to update the APO/Dockets room number and the electronic filing and ACCESS Handbook web addresses. This rule does not impact any substantive rights or obligations. The changes made by this rule need to be implemented without further delay to avoid the confusion caused by references to the previous room number that is no longer used by the APO/Dockets Unit and the changed web addresses. No other law requires that a notice of proposed rulemaking and an opportunity for public comment be given for this final rule. Accordingly, this rule is issued in final form. For the reasons listed above, pursuant to 5 U.S.C. 553(d)(3), the 30-day delay in effectiveness is also waived for good cause as this rule involves nonsubstantive changes to the regulations to update the APO/Dockets room number and two web addresses. This rule does not contain any provisions that require regulated entities to come into compliance and failure to implement it immediately could cause unnecessary confusion for the public.

3. Because a notice of proposed rulemaking and an opportunity for public comment are not required by the Administrative Procedure Act or any other law, the analytical requirements of the Regulatory Flexibility Act (5 U.S.C. 601, et seq.) are not applicable. Accordingly, no final regulatory flexibility analysis is required and none has been prepared.

List of Subjects in 19 CFR Part 351

Administrative practice and procedure, Antidumping, Business and industry, Cheese, Confidential business information, Countervailing duties, Freedom of information, Investigations, Reporting and recordkeeping requirements.

For the reasons set out in the preamble, 19 CFR part 351 is amended as follows:

PART 351—ANTIDUMPING AND COUNTERVAILING DUTIES

1. The authority citation for part 351 continues to read as follows:

Authority: 5 U.S.C. 301; 19 U.S.C. 1202 note; 19 U.S.C. 1303 note; 19 U.S.C. 1671 et seq.; and 19 U.S.C. 3538.

§ 351.103 [Amended]

2. Amend § 351.103(b) and (c) by removing “Room 1870” and adding in its place “Room 18022”.

3. Amend § 351.303 by:

a. Removing “Room 1870” from paragraph (b)(1) and adding in its place “Room 18022”.

b. Revising paragraphs (b)(2)(i) and (ii).

c. Removing “http://iaaccess.trade.gov” from paragraph (b)(3) and adding in its place “https://access.trade.gov”.

The revisions read as follows:

§ 351.303 Filing, document identification, format, translation, service, and certification of documents.

* * * * *

(b) * * *

(2) Filing of documents and databases—(i) Electronic filing. A person must file all documents and databases electronically using ACCESS at https://access.trade.gov. A person making a filing must comply with the procedures set forth in the ACCESS Handbook on Electronic Filing Procedures, which is available on the ACCESS Web site at https://access.trade.gov.

(ii) Manual filing. (A) Notwithstanding § 351.303(b)(2)(i), a person must manually file a data file that exceeds the file size limit specified in the ACCESS Handbook on Electronic Filing Procedures and as referenced in § 351.303(c)(3), and the data file must be accompanied by a cover sheet described in § 351.303(b)(3). A person may manually file a bulky document. If a person elects to manually file a bulky document, it must be accompanied by a cover sheet described in § 351.303(b)(3). The Department both provides specifications for large data files and defines bulky document standards in the ACCESS Handbook on Electronic Filing Procedures, which is available on the ACCESS Web site at https://access.trade.gov.

* * * * *

Dated: May 29, 2015.
Paul Piquado,
Assistant Secretary for Enforcement and Compliance.

[FR Doc. 2015-15544 Filed 6-24-15; 8:45 am]

BILLING CODE 3510-DS-P